DEPARTMENT OF AGRICULTURE

Rural Utilities Service

Announcement of Grant Awards Under the RUS Distance Learning and Telemedicine Grant Program

AGENCY: Rural Utilities Service, USDA.

ACTION: Notice of applications selected to receive grant awards.

SUMMARY: The Rural Utilities Service (RUS) hereby announces the recipients selected to receive grant awards during fiscal year (FY) 2005 under the Distance Learning and Telemedicine Grant Program.

ADDRESSES: Subject to the provisions of the Freedom of Information Act, (5 U.S.C. 552), applications will be available for public inspection at the U.S. Department of Agriculture, 1400 Independence Avenue, SW., Washington, DC 20250.

FOR FURTHER INFORMATION CONTACT: Gary B. Allan, Chief, Universal Services Branch, U.S. Department of Agriculture, Rural Utilities Service. Telephone: (202) 720-0413, Fax (202) 720-1051, dltinfo@usda.gov. The list of awards may be viewed on the Internet at http://www.usda.gov/rus/telecom/dlt/dlt.htm.

SUPPLEMENTARY INFORMATION: Pursuant to 7 CFR 1703.101, RUS hereby publishes the names of the 79 organizations that have been awarded $29.4 million in grants under 7 CFR 1703, subpart D, Distance Learning and Telemedicine Grant Program. The recipients are as follows:

State | Organization | Amount
AK | Alaska Primary Care Association, Inc | $258,765
AK | Yukon-Kuskokwim Health Corporation | 500,000
AK | Maniilaq Association | 269,892
AK | Aleutians East Borough School District | 488,030
AK | Norton Sound Health Corporation | 499,646
AK | Eastern Aleutian Tribes | 412,867
AL | Talladega County Schools/Talladega County Board of Education | 499,978
AR | Ozark Health Foundation | 420,505
AR | White River Rural Health Center, Inc | 341,297
AZ | La Paz Regional Hospital, Inc | 458,061
CA | Open Door Community Health Centers, Inc | 205,833
CO | Mesa State College | 338,892
GA | East Central Technical College Foundation | 498,252
HI | Maui Community College | 387,743
IA | The University of Iowa | 198,000
ID | St. Mary's Hospital, Inc | 289,369
IL | Lewis and Clark Community College | 294,678
IN | St. Vincent Health | 205,706
IN | Southwest Dubois County School Corp. LEA for the Southern Indiana Education Center | 389,599
KS | Rural Health Resources of Jackson County, Inc | 492,076
KS | Southeast Kansas Education Service Center | 499,920
ME | Northeast Health | 107,450
ME | Central Maine Medical Center | 500,000
MI | Alpena General Hospital | 421,872
MI | Berrien County Intermediate School District | 350,000
MI | Borgess Health Alliance | 321,020
MI | Trinity Health Michigan | 200,015
MN | Tri-County Hospital, Inc | 500,000
MN | MediSota, Inc | 102,100
MN | Minnesota Association of Community Mental Health Programs, Inc | 475,022
MO | Citizens Memorial Hospital District | 432,265
MS | Carroll County School District | 500,000
MT | Clark Fork Valley Hospital | 134,947
NC | Beaufort County Schools | 114,211
NE | Educational Service Unit #15 | 378,800
NE | Chase County High School | 183,100
NH | Exeter Region Cooperative School District | 499,330
NH | VNA at HCS, Inc | 327,100
NM | Northwest Regional Education Center #2 | 486,100
NM | High Plains Regional Education Cooperative | 454,668
NV | Elko County School District | 474,872
NV | White Pine County School District | 500,000
NY | Steuben-Allegany BOCES | 252,948
NY | Washington County Public Health | 136,035
NY | Sullivan County Board of Cooperative Education | 446,232
NY | Jefferson-Lewis-Hamilton-Herkimer-Oneida Board of Cooperative Educational Services | 467,635
NY | Madison-Oneida Board of Cooperative Educational Services (BOCES) | 468,853
OH | Adams County Hospital | 141,812
OH | Allen County Health Partners, Inc | 339,641
OK | Choctaw Nation of Oklahoma | 304,542
OK | Lane Elementary School | 346,325
OK | Wapanucka Public School | 486,050
OK | Western Oklahoma State College | 485,490
OK | Connor State College | 498,148
OR | Asante Health System | 499,165
OR | Libraries of Eastern Oregon | 53,885
PA | Lewistown Hospital | 392,950
PA | Bradford Regional Medical Center | 110,575
SD | Avera Health | 500,000
SD | Catholic Chancery of Sioux Falls | 173,429
SD | Avera McKennan | 307,831
SD | South Dakota State University | 319,517
SD | Northern State University | 496,463
TN | Scott County Schools | 500,000
TN | Mountain States Health Alliance | 476,944
TX | Education Service Center, Region 17 | 291,918
TX | Driscoll Children's Hospital | 455,208
TX | Region 16 Education Service Center | 500,000
TX | Region XIV Education Service Center | 499,990
TX | Education Service Center Region XI | 500,000
TX | Ricardo ISD | 248,580
VA | Southwest Virginia Education and Training Network | 500,000
WA | Ocean Beach Hospital | 248,400
WA | Community Choice PHCO | 461,005
WA | Colville Confederated Tribes | 449,636
WI | Highland School District | 303,064
WV | Harrison County Board of Education | 349,935
WV | Braxton County Schools | 500,000
WV | Roane County Schools | 485,825

Dated: December 15, 2005.
James M. Andrew,
Administrator, Rural Utilities Service.

[FR Doc. 05-24239 Filed 12-21-05; 8:45 am]

BILLING CODE 3410-15-P